FEDERAL MINE SAFETY AND HEALTH REVIEW COMMISSION

Sunshine Act Notice

[BAC 6735-01]

TIME AND DATE: December 16, 2016, 10:00 a.m., Thursday, January 19, 2017.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor v. Consolidation Coal Company, Docket Nos. VA 2012-42 et al. (Issues include whether the Judge erred by ruling that a deep cut in violation of the operator's roof control plan was not “significant and substantial.”)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935, (202) 708-9300 for TDD Relay, 1-800-877-8339 for toll free.

PHONE NUMBER FOR LISTENING TO MEETING: 1 (866) 867-4769; Passcode: 129-339.

Sarah L. Stewart,
Deputy General Counsel.

[FR Doc. 2016-30771 Filed 12-16-16; 4:15 pm]

BILLING CODE 6735-01-P